DEPARTMENT OF HOMELAND SECURITY

Coast Guard

[Docket No. USCG-2011-0070]

Commercial Fishing Safety Advisory Committee; Meeting

AGENCY: Coast Guard, DHS.

ACTION: Notice of meeting.

SUMMARY: The Commercial Fishing Safety Advisory Committee (CFSAC) will meet in Portsmouth, Virginia to discuss various issues relating to safety in the commercial fishing industry. This meeting will be open to the public.

DATES: The Committee will meet on March 1-3, 2011, from 8 a.m. to 5 p.m. This meeting may close early if all business is finished. Written material and requests to make oral presentations should reach the Coast Guard on or before February 23, 2011.

ADDRESSES: The Committee will meet at the Renaissance Portsmouth Hotel and Waterfront Conference Center, 425 Water Street, Portsmouth, Virginia 23705.

Please send written material, comments, and requests to make oral presentations to Mr. Jack Kemerer, Assistant to the Designated Federal Official (DFO) of CFSAC, by one of the submission methods described below. All materials, comments, and requests must be identified by docket number [USCG-2011-0070].

Submission Methods: Please use only one of the following methods:

• Federal eRulemaking Portal: http://www.regulations.gov. Follow the instructions for submitting comments.

• E-mail: jack.a.kemerer@uscg.mil. Include the docket number in the subject line of the message.

• Fax: (202) 372-1917.

• Mail: Mr. Jack Kemerer, COMDT (CG-54221), 2100 2nd Street, SW., Stop 7581, Washington, DC 20593.

Instructions: All submissions received must include the words “U.S. Coast Guard” and docket number [USCG-2011-0070]. All submissions received will be posted without alteration at www.regulations.gov, including any personal information provided. Anyone can search the electronic form of comments received into any of our dockets by the name of the individual submitting the comment (or signing the comment, if submitted on behalf of an association, business, labor union, etc.) You may review a Privacy Act notice regarding our public dockets in the January 17, 2008 issue of the Federal Register (73 FR 3316).

Docket: For access to the docket to read background documents or submissions received by the CFSAC, go to http://www.regulations.gov.

FOR FURTHER INFORMATION CONTACT: Mr. Jack Kemerer, Assistant to DFO of CFSAC, by telephone at 202-372-1249, fax 202-372-1917, email: jack.a.kemerer@uscg.mil.

SUPPLEMENTARY INFORMATION: Notice of this meeting is given under the Federal Advisory Committee Act, 5 U.S.C. App. (Pub. L. 92-463). The CFSAC is authorized by 46 U.S.C. 4508 and the Committee's purpose is to provide advice and recommendations to the U.S. Coast Guard and the Department of Homeland Security on matters relating to the safety of commercial fishing industry vessels.

Agenda of Meeting

The agenda for the CFSAC meeting is as follows:

(1) Review of Fishing Vessel Safety Requirements changes from the Coast Guard Authorization Act of 2010.

(2) Status of Commercial Fishing Vessel Safety Rulemaking.

(3) Commercial Fishing Vessel Safety District Coordinators updates.

(4) Industry Representatives updates.

(5) Presentation on research and safety related projects by the National Institute for Occupational Safety and Health.

(6) Presentation on safety standards by the National Oceanic and Atmospheric Administration, National Marine Fisheries Service.

(7) Subcommittee sessions on: Communications and outreach; risk management; operator training; vessel construction and standards; safety and survival equipment; safety examinations; and safety program strategies, future plans, and long range goals.

(8) Opportunity for public to comment will be provided each day.

Procedural

This meeting is open to the public. Please note that the meeting may close early if all business is finished. Members of the public may make oral presentations during the meeting. If you would like to make an oral presentation at the meeting, please notify the Designated Federal Officer no later than February 23, 2011. Written material for distribution at the meeting should reach the Coast Guard no later than February 18, 2011. Copies of all material that is received will be distributed to each member of the committee in advance of the meeting. Please submit a copy to the DFO for distribution to committee members no later than February 23, 2011.

Information on Services for Individuals With Disabilities

For information on facilities or services for individuals with disabilities or to request special assistance at a meeting, contact the Designated Federal Officer as soon as possible, but no later than February 23, 2011.

Dated: February 9, 2011.
J. G. Lantz,
Director of Commercial Regulations and Standards.

[FR Doc. 2011-3338 Filed 2-10-11; 11:15 am]

BILLING CODE 9110-04-P